SMALL BUSINESS ADMINISTRATION

[Disaster Declaration #12163]

Louisiana Disaster #LA-00032 Declaration of Economic Injury

AGENCY: Small Business Administration.

ACTION: Amendment 1.

SUMMARY: This is an amendment of an Economic Injury Disaster Loan (EIDL) declaration for the State of Louisiana, dated 05/10/2010.

Incident: Deepwater BP Oil Spill.

Incident Period: 04/20/2010 and continuing.

DATES: Effective Date: 05/10/2010.

EIDL Loan Application Deadline Date: 02/07/2011.

ADDRESSES: Submit completed loan applications to: Small Business Administration, Processing and Disbursement Center, 14925 Kingsport Road, Fort Worth, TX 76155.

FOR FURTHER INFORMATION CONTACT: M. Mitravich, Office of Disaster Assistance, Small Business Administration, 409 3rd Street, SW., Suite 6050, Washington, DC 20416.

SUPPLEMENTARY INFORMATION: The notice of an Economic Injury declaration for the State of Louisiana dated 05/05/2010, is hereby amended to include the following areas as adversely affected by the disaster.

Primary Parishes:

Ascension, East Feliciana, Evangeline, Iberia, Livingston, Saint Charles, Saint Martin, Tangipahoa, Terrebonne, Washington

Contiguous Parishes and Counties:

Louisiana: Acadia, Allen, Avoyelles, East Baton Rouge, Iberville, Jefferson Davis, Lafayette, Pointe Coupee, Rapides, Saint Helena, Saint Landry, Saint Mary, Vermilion, West Baton Rouge, West Feliciana

Mississippi: Amite, Marion, Pike, Walthall, Wilkinson

All other information in the original declaration remains unchanged.

(Catalog of Federal Domestic Assistance Number 59002)

Dated: May 10, 2010.
Karen G. Mills,
Administrator.

[FR Doc. 2010-11747 Filed 5-17-10; 8:45 am]

BILLING CODE 8025-01-P